DEPARTMENT OF COMMERCE

International Trade Administration

[A-357-812]

Honey from Argentina: Final Results, Partial Rescission of Antidumping Duty Administrative Review and Determination Not to Revoke in Part

AGENCY: Import Administration, International Trade Administration, Department of Commerce.

SUMMARY: On December 28, 2005, the Department of Commerce (the Department) published its Preliminary Results and Partial Rescission of Antidumping Duty Administrative Review and Intent Not to Revoke in Part, 70 FR 76766 (December 28, 2005) (Preliminary Results). This administrative review covers two exporters, Seylinco S.A. (Seylinco) and Asociacion de Cooperativas Argentinas (ACA), of subject merchandise to the United States during the period of review (POR) of December 1, 2003, to November 30, 2004. The petitioners involved this review are the Sioux Honey Association and the American Honey Producers Association (Petitioners). We are rescinding the review with respect to Nutrin S.A. (Nutrin), Radix S.A. (Radix), Compania Europea Americana S.A. (CEASA) and HoneyMax S.A. (HoneyMax) because these companies had no entries of subject merchandise to the United States during the period of review. We have also determined not to revoke the antidumping duty order with respect to ACA. Based on our analysis of comments received, the margin calculations for these final results do not differ from the preliminary results.

EFFECTIVE DATE: May 4, 2006.

FOR FURTHER INFORMATION CONTACT: Angela Strom for ACA, Brian Sheba for Seylinco or Robert James, Office 7, Import Administration, International Trade Administration, U.S. Department of Commerce, 14th Street and Constitution Avenue, NW., Washington, DC 20230; telephone: (202) 482-2704, (202) 482-0145, or (202) 482-0649, respectively.

SUPPLEMENTARY INFORMATION:

Background

On December 28, 2005, the Department published its Preliminary Results of this antidumping duty administrative review of honey from Argentina. In response to the Department's invitation to comment on the preliminary results, ACA submitted its case brief on January 30, 2006, and petitioners submitted its rebuttal brief on February 7, 2006. In addition, two ex parte meetings were held with respect to this review. See Memorandum to the file, dated February 27, 2006, on file in the Central Records Unit (CRU) in room B-099 of the main Commerce building.

Scope of the Order

The merchandise covered by the order is honey from Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise is currently classifiable under subheadings 0409.00.00, 1702.90.90, and 2106.90.99 of the Harmonized Tariff Schedule of the United States (HTSUS). Although the HTSUS subheadings are provided for convenience and Customs purposes, the Department's written description of the merchandise under this order is dispositive.

Partial Rescission of Review

As noted in the Preliminary Results, Nutrin, Radix, CEASA and HoneyMax had no shipments of subject merchandise to the United States during the POR. We have confirmed this with data from Customs and Border Protection (CBP). Therefore, in accordance with 19 CFR 351.213(d)(3) and consistent with the Department's practice, we are rescinding our review with respect to these companies. See, e.g., Certain Steel Concrete Reinforcing Bars from Turkey; Final Results, Rescission of Antidumping Administrative Review in Part, and Determination Not to Revoke in Part, 69 FR 64731, 64732 (November 8, 2004).

Determination Not to Revoke in Part

For these final results, the Department has relied upon ACA's sales activity during the 2001-2002, 2002-2003, and 2003-2004 PORs in making its decision with respect to ACA's revocation request. Although ACA had two consecutive years of sales at not less than normal value (NV), ACA has not received a zero or de minimis margin in the instant review. Thus, ACA is not eligible for consideration for revocation under section 351.222(b) of the Department's regulations. Furthermore, pursuant to section 351.222(d)(1), we find that ACA did not ship in commercial quantities in each of the three years forming the basis of the request for revocation. Accordingly, we have determined not to revoke the antidumping duty order with respect to ACA.

Analysis of Comments Received

All issues raised in the case and rebuttal briefs by parties to this administrative review are addressed in the “Issues and Decision Memorandum” (Decision Memorandum) from Stephen J. Claeys, Deputy Assistant Secretary for Import Administration, to David M. Spooner, Assistant Secretary for Import Administration. A list of issues addressed in the Decision Memorandum is appended to this notice. The Decision Memorandum is on file in the CRU and can be accessed directly on the Web at http://www.ita.doc.gov/.

Changes Since the Preliminary Results

Based on our analysis of comments received, we have made no changes in the margin calculation.

Final Results of Review

We determine that the following dumping margins exist for the period December 1, 2003, through November 30, 2004.

Manufacturer / Exporter | Weighted Average Margin (percentage)
Asociacion de Cooperativas Argentinas | 2.95
Seylinco S.A. | 0

Assessment

The Department shall determine, and the CBP shall assess, antidumping duties on all appropriate entries. In accordance with 19 CFR 351.212(b)(1), we have calculated importer-specific assessment rates for the merchandise based on the ratio of the total amount of antidumping duties calculated for the examined sales made during the POR to the total customs value of the sales used to calculate those duties. The Department will issue appropriate ad valorem assessment instructions directly to CBP within 15 days of publication of these final results of review. We will direct CBP to assess the resulting assessment rate against the entered customs values for the subject merchandise on each of the importer's entries during the POR.

The Department clarified its “automatic assessment” regulation on May 6, 2003 (68 FR 23954). This clarification will apply to entries of subject merchandise during the period of review produced by companies included in these final results of review for which the reviewed companies did not know their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following cash deposit requirements will be effective upon publication of the final results of this administrative review for all shipments of the subject merchandise entered, or withdrawn from warehouse, for consumption on or after the publication date, as provided for by section 751(a)(1) of the Tariff Act of 1930, as amended (the Tariff Act):

(1) the cash deposit for all companies reviewed will be the rates established in the final results of review;

(2) for any previously reviewed or investigated company not listed above, the cash deposit rate will continue to be the company-specific rate published in the most recent period;

(3) if the exporter is not a firm covered in this review or in any previous segment of this proceeding, but the manufacturer is, the cash deposit rate will be the rate established for the most recent period for the manufacturer of the merchandise; and

(4) if neither the exporter nor the manufacturer is a firm covered in this or any previous review conducted by the Department, the cash deposit rate will be the “all others” rate from the LTFV investigation (30.24 percent). See Notice of Antidumping Duty Order; Honey From Argentina, 66 FR 63672 (December 10, 2001). These deposit requirements, when imposed, shall remain in effect until publication of the final results of the next administrative review.

Notification to Interested Parties

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation, which is subject to sanction.

We are issuing and publishing this determination and notice in accordance with sections section 751(a)(1) and 777(i)(1) of the Tariff Act.

Dated: April 27, 2006.
David M. Spooner,
Assistant Secretary for Import Administration.

Appendix: Issues and Decision Memorandum

1. Warranty Expense Methodology

2. Testing Expenses

[FR Doc. E6-6758 Filed 5-3-06; 8:45 am]

BILLING CODE 3510-DS-S